DEPARTMENT OF DEFENSE

Office of the Secretary

Renewal of Department of Defense Federal Advisory Committees

AGENCY: Department of Defense.

ACTION: Renewal of Federal Advisory Committee.

SUMMARY: Under the provisions of the Federal Advisory Committee Act of 1972, (5 U.S.C. Appendix, as amended), the Government in the Sunshine Act of 1976 (5 U.S.C. 552b, as amended), and 41 CFR 102-3.65, the Department of Defense gives notice that it is renewing the charter for the U.S. Strategic Command Strategic Advisory Group (hereafter referred to as the Group).

The Group is a discretionary federal advisory committee established by the Secretary of Defense to provide the Department of Defense, the Chairman of the Joint Chiefs of Staff and the U.S. Strategic Command independent advice and recommendations on scientific, technical, intelligence and policy-related issues concerning the development and implementation of the Nation's strategic war plans. The Group, in accomplishing its mission: (a) Ensures the safety, reliability, and performance of nuclear weapons; (b) oversees the Stockpile Stewardship Program; (c) advises on the relevance of deterrence in the new world order; (d) monitors the continued downsizing of nuclear forces and the role of non-nuclear weapons in the strategic planning process; and (e) evaluates the general arms control options for enhanced stability.

The Group shall be composed of not more than 50 members, who are distinguished members of the academia, business, and the defense industry. Group members appointed by the Secretary of Defense, who are not federal officers or employees, shall serve as Special Government Employees under the authority of 5 U.S.C. 3109. Group members shall be appointed on an annual basis by the Secretary of Defense, and the Commander of the U.S. Strategic Command or designated representative shall select the Group's Chairperson from the total Group membership. In addition, the Chairman of the Joint Chiefs of Staff shall be authorized to appoint, as required, non-voting consultants to provide technical expertise to the Group.

Group members and consultants, if required, shall, with the exception of travel and per diem for official travel, serve without compensation.

The Group shall be authorized to establish subcommittees, as necessary and consistent with its mission, and these subcommittees or working groups shall operate under the provisions of the Federal Advisory Committee Act of 1972, the Government in the Sunshine Act of 1976, and other appropriate federal regulations.

Such subcommittees or workgroups shall not work independently of the chartered Group, and shall report all their recommendations and advice to the Group for full deliberation and discussion. Subcommittees or workgroups have no authority to make decisions on behalf of the chartered Group nor can they report directly to the Department of Defense or any federal officers or employees who are not Group members.

SUPPLEMENTARY INFORMATION: The Group shall meet at the call of the Group's Designated Federal Officer, in consultation with the Group's chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the U.S. Strategic Command Strategic Advisory Group membership about the Group's mission and functions. Written statements may be submitted at any time or in response to the stated agenda of planned meeting of the U.S. Strategic Command Strategic Advisory Group.

All written statements shall be submitted to the Designated Federal Officer for the U.S. Strategic Command Strategic Advisory Group, and this individual will ensure that the written statements are provided to the membership for their consideration. Contact information for the U.S. Strategic Command Strategic Advisory Group's Designated Federal Officer can be obtained from the GSA's FACA Database— https://www.fido.gov/facadatabase/public.asp.

The Designated Federal Officer, pursuant to 41 CFR 102-3.150, will announce planned meetings of the U.S. Strategic Command Strategic Advisory Group. The Designated Federal Officer, at that time, may provide additional guidance on the submission of written statements that are in response to the stated agenda for the planned meeting in question.

FOR FURTHER INFORMATION CONTACT: Jim Freeman, Deputy Committee Management Officer for the Department of Defense, 703-601-2554, extension 128.

Dated: February 29, 2008.
L.M. Bynum,
Alternate OSD Federal Register Liaison Officer, Department of Defense.

[FR Doc. E8-4357 Filed 3-5-08; 8:45 am]

BILLING CODE 5001-06-P